DEPARTMENT OF THE INTERIOR

Fish and Wildlife Service

50 CFR Part 32

2008-2009 Refuge-Specific Hunting and Sport Fishing Regulations

CFR Correction

In Title 50 of the Code of Federal Regulations, Parts 18 to 199, revised as of October 1, 2008, on page 347, in § 32.42, following Big Stone National Wildlife Refuge, reinstate Big Stone Wetland Management District to read as follows:

§ 32.42 Minnesota.

* * * * *

Big Stone Wetland Management District

A. Migratory Game Bird Hunting. We allow hunting of migratory game birds throughout the district in accordance with State regulations subject to the following conditions:

1. We prohibit the use of motorized boats.

2. We prohibit the construction or use of permanent blinds, stands, or scaffolds.

3. You must remove all personal property, which includes boats, decoys, and blinds brought onto the WPA each day (see §§ 27.93 and 27.94 of this chapter).

4. We allow the use of hunting dogs, provided the dog is under the immediate control of the hunter at all times during the State-approved hunting season (see § 26.21(b) of this chapter).

5. We prohibit camping.

B. Upland Game Hunting. We allow upland game hunting throughout the district in accordance with State regulations subject to the following conditions: Conditions A4 and A5 apply.

C. Big Game Hunting. We allow big game hunting throughout the district in accordance with State regulations subject to the following conditions:

1. Hunters may use portable stands. Hunters may not construct or use permanent blinds, permanent platforms, or permanent ladders.

2. You must remove all stands and personal property from the WPAs each day (see §§ 27.93 and 27.94 of this chapter).

3. We prohibit hunters occupying ground and tree stands that are illegally set up or constructed.

4. Condition A5 applies.

D. Sport Fishing. We allow fishing throughout the district in accordance with State regulations subject to the following conditions:

1. We prohibit the use of motorized boats.

2. You must remove all ice fishing shelters and all other personal property from the WPAs each day (see § 27.93 of this chapter).

3. Condition A5 applies.

* * * * *

[FR Doc. E9-22260 Filed 9-14-09; 8:45 am]

BILLING CODE 1505-01-D